DEPARTMENT OF THE TREASURY

Submission for OMB Review; Comment Request

July 13, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 19, 2005 to be assured of consideration.

Internal Revenue Service (IRS)

OMB Number: 1545-1677.

Regulation Project Number: REG0136311-01 Final.

Type of Review: Extension.

Title: Exclusions from Gross Income of Foreign Corporations.

Description: This document contains rules implementing the portions of section 883(a) and (c) of the Internal Revenue Code that relate to income derived by foreign corporations from the international operation of a ship or ships or aircraft. The rules provide, in general, that a foreign corporation organized in a qualified foreign country and engaged in the international operation of ships or aircraft shall exclude qualified income from gross income for purposes of United States Federal income taxation, provided that the corporation can satisfy certain ownership and related documentation requirements. This regulation describes these documentation requirements and the filing requirements necessary for a foreign corporation to claim a reciprocal exemption.

Respondents: Business and other for-profit, Individuals or households, Not-for-profit institutions.

Estimated Number of Respondents/Recordkeepers: 16,400.

Estimated Burden Hours Respondent/Recordkeeper: 1 hour, 27 minutes.

Frequency of Response: On occasion, Annually, Other (certain shareholder information may be collection once every three years).

Estimated Total Reporting/Recordkeeping Burden: 23,900 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Lois K. Holland,
Treasury PRA Clearance Officer.

[FR Doc. 05-14231 Filed 7-19-05; 8:45 am]

BILLING CODE 4830-01-P